DEPARTMENT OF LABOR

Employment and Training Administration

[TA-W-57,662]

Eagle Ottawa, LLC, Rochester Hill, MI; Notice of Termination of Investigation

Pursuant to Section 221 of the Trade Act of 1974, as amended, an investigation was initiated on August 3, 2005 in response to a worker petition filed by a company official on behalf of workers at Eagle Ottawa, LLC, Rochester Hill, Michigan.

The petitioner has requested that the petition be withdrawn. Consequently, further investigation would serve no purpose and the investigation has been terminated.

Signed at Washington, DC, this 12th day of September, 2005.
Elliott S. Kushner,
Certifying Officer, Division of Trade Adjustment Assistance.

[FR Doc. E5-5297 Filed 9-27-05; 8:45 am]

BILLING CODE 4510-30-P